DEPARTMENT OF HEALTH AND HUMAN SERVICES

Substance Abuse and Mental Health Services Administration (SAMHSA)

Notice of a Meeting

Pursuant to Public Law 92-463, notice is hereby given of a meeting of the Substance Abuse and Mental Health Services Administration (SAMHSA) National Advisory Council in June 2006.

The SAMHSA Council will meet in an open session on June 29 from 9 a.m. to 3:30 p.m. The meeting will include a report from the SAMHSA Administrator, a presentation on SAMHSA's international activities, and an update on SAMHSA's Access to Recovery (ATR) program. In addition, the recipient of a SAMHSA ATR grant will describe his State's approach to implementing the program.

Attendance by the public will be limited to the space available. Public comments are welcome. Please communicate with the individual listed as contact below to make arrangements to comment or to request special accommodations for persons with disabilities.

Substantive program information, a summary of the meeting, and a roster of Council members may be obtained after the meeting by contacting Ms. Toian Vaughn (see contact information below) or by accessing the SAMHSA Council Web site at http://www.samhsa.gov/council. The transcript for the meeting will also be available on the SAMHSA Council Web site within 3 weeks after the meeting.

Committee Name: SAMHSA National Advisory Council.

Date/Time: Thursday, June 29, 2006, 9 a.m. to 3:30 p.m. (Open).

Place: 1 Choke Cherry Road, Sugar Loaf and Seneca Conference Rooms, Rockville, Maryland 20857.

Contact: Ms. Toian Vaughn, Executive Secretary, SAMHSA National Advisory Council and SAMHSA Committee Management Officer, 1 Choke Cherry Road, Room 8-1089, Rockville, Maryland 20857. Telephone: (240) 276-2307; FAX: (240) 276-2220. E-mail: toian.vaughn@samhsa.hhs.gov.

Dated: June 8, 2006.
Toian Vaughn,
Executive Secretary, SAMHSA National Advisory Council and SAMHSA Committee Management Officer.

[FR Doc. E6-9341 Filed 6-14-06; 8:45 am]

BILLING CODE 4162-20-P